DEPARTMENT OF COMMERCE

International Trade Administration

[A-821-807]

Ferrovanadium and Nitrided Vanadium from the Russian Federation: Revocation of Antidumping Duty Order

AGENCY: Import Administration, International Trade Administration, Department of Commerce.

SUMMARY: As a result of the determination by the International Trade Commission (ITC), that revocation of the antidumping duty order on ferrovanadium and nitrided vanadium from the Russian Federation (Russia) would not be likely to lead to continuation or recurrence of material injury to an industry in the United States within a reasonably foreseeable time,¹ the Department of Commerce (the Department) is publishing this notice of revocation of the antidumping duty order on ferrovanadium and nitrided vanadium from Russia.

¹ See Ferrovanadium and Nitrided Vanadium From Russia, 77 FR 51825 (August 27, 2012) (ITC Final).

DATES: Effective Date: October 13, 2011.

FOR FURTHER INFORMATION CONTACT: David Goldberger or Rebecca Trainor, AD/CVD Operations, Office 2, Import Administration, International Trade Administration, U.S. Department of Commerce, 14th Street and Constitution Avenue NW., Washington, DC 20230; telephone: (202) 482-4136 and (202) 482-4007, respectively.

SUPPLEMENTARY INFORMATION:

Background

On July 10, 1995, the Department published the antidumping duty order on ferrovanadium and nitrided vanadium from Russia.² On September 1, 2011, the Department initiated and the ITC instituted the third sunset review of the antidumping duty order on ferrovanadium and nitrided vanadium from Russia, pursuant to section 751(c) of the Tariff Act of 1930, as amended (the Act).³

² See Notice of Antidumping Order: Ferrovanadium and Nitrided Vanadium from the Russian Federation, 60 FR 35550 (July 10, 1995).

³ See Initiation, and Ferrovanadium and Nitrided Vanadium From Russia; Institution of a Five-Year Review Concerning the Antidumping Duty Order on Ferrovanadium and Nitrided Vanadium From Russia, 76 FR 54490 (September 1, 2011).

The Department expedited the third sunset review of the antidumping duty order on nitrided vanadium from Russia. As a result of its review, the Department found that revocation of the antidumping duty order would be likely to lead to continuation or recurrence of dumping and notified the ITC of the magnitude of the margins likely to prevail were the order to be revoked.⁴

⁴ See Final Results of Expedited Sunset Review: Ferrovanadium and Nitrided Vanadium From Russia, 76 FR 78888 (December 20, 2011).

On August 22, 2012, the ITC notified the Department that, pursuant to section 751(c) of the Act, revocation of this order would not be likely to lead to continuation or recurrence of material injury to an industry in the United States within a reasonably foreseeable time.⁵

⁵ See ITC Final and Ferrovanadium and Nitrided Vanadium From Russia: Investigation No. 731-TA-702 (Third Review), USITC Publication 4345 (August 2012).

Scope of the Order

The products covered by the order are ferrovanadium and nitrided vanadium, regardless of grade, chemistry, form or size, unless expressly excluded from the scope of the order. Ferrovanadium includes alloys containing ferrovanadium as the predominant element by weight (i.e., more weight than any other element, except iron in some instances) and at least 4 percent by weight of iron. Nitrided vanadium includes compounds containing vanadium as the predominant element, by weight, and at least 5 percent, by weight, of nitrogen.

Excluded from the scope of the order are vanadium additives other than ferrovanadium and nitrided vanadium, such as vanadium-aluminum master alloys, vanadium chemicals, vanadium waste and scrap, vanadium-bearing raw materials, such as slag, boiler residues, fly ash, and vanadium oxides.

The products subject to the order are currently classifiable under subheadings 2850.00.20, 7202.92.00, 7202.99.5040, 8112.40.3000, and 8112.40.6000 of the Harmonized Tariff Schedule of the United States (“HTSUS”). Although the HTSUS subheadings are provided for convenience and customs purposes, our written description of the scope is dispositive.

Revocation

As a result of the determination by the ITC that revocation of the order is not likely to lead to the continuation or recurrence of material injury to an industry in the United States, the Department, pursuant to section 751(d) of the Act, is revoking the antidumping duty order on ferrovanadium and nitrided vanadium from Russia. Pursuant to section 751(d)(2) of the Act and 19 CFR 351.222(i)(2)(i), the effective date of revocation is October 13, 2011 (i.e., the fifth anniversary of the date of publication in the Federal Register of the most recent notice of continuation of the antidumping duty order).⁶ The Department intends to notify U.S. Customs and Border Protection (CBP), 15 days after publication of this notice, to discontinue suspension of liquidation and collection of cash deposits on entries of ferrovanadium and nitrided vanadium from Russia entered or withdrawn from warehouse on or after October 13, 2011, the effective date of revocation of the antidumping duty order. The Department will further instruct CBP to refund with interest any cash deposits on entries made on or after October 13, 2011. Entries of subject merchandise prior to the effective date of revocation will continue to be subject to suspension of liquidation and antidumping deposit requirements. The Department will complete any pending administrative reviews of this order.

⁶ See Ferrovanadium and Nitrided Vanadium From Russia: Notice of Continuation of Antidumping Duty Order, 71 FR 60475 (October 13, 2006).

This notice also serves as the only reminder to parties subject to administrative protective order (“APO”) of their responsibility concerning the return/destruction or conversion to judicial protective order of proprietary information disclosed under APO in accordance with 19 CFR 351.305(a)(3). Failure to comply is a violation of the APO which may be subject to sanctions.

This revocation and notice are issued in accordance with section 751(d)(2) of the Act and published pursuant to section 777(i)(1) of the Act and 19 CFR 351.222(i)(2).

Dated: August 30, 2012.
Paul Piquado,
Assistant Secretary for Import Administration.

[FR Doc. 2012-22019 Filed 9-5-12; 8:45 am]

BILLING CODE 3510-DS-P